DEPARTMENT OF THE INTERIOR

Fish and Wildlife Service

[Docket No. FWS-HQ-ES-2023-N021; FF09E42000-FXES111609BFEDR-234]

John H. Chafee Coastal Barrier Resources System; Availability of Final Revised Maps for Michigan, Minnesota, Mississippi, Ohio, South Carolina, Texas, and Wisconsin

AGENCY: Fish and Wildlife Service, Interior.

ACTION: Notice of availability.

SUMMARY: The Coastal Barrier Resources Act requires the Secretary of the Interior to review the maps of the John H. Chafee Coastal Barrier Resources System (CBRS) at least once every 5 years and make any minor and technical modifications to the boundaries of the CBRS as are necessary to reflect changes that have occurred in the size or location of any unit as a result of natural forces. We, the U.S. Fish and Wildlife Service, have conducted this review for all of the CBRS units in Michigan, Minnesota, Mississippi, North Carolina, Ohio, Texas, and Wisconsin, and 10 units in South Carolina. This notice announces the findings of our review and the availability of final revised maps for 116 CBRS units in the project area, except for the North Carolina units. We did not prepare final revised maps for the North Carolina units because sufficient data was not available in some areas.

DATES: Changes to the CBRS depicted on the final revised maps, dated December 30, 2022, become effective on August 16, 2023.

ADDRESSES: For information about how to get copies of the maps or where to go to view them, see the Availability of Final Maps and Related Information section.

FOR FURTHER INFORMATION CONTACT: Katie Niemi, Coastal Barriers Coordinator, via telephone at 703-358-2071 or email at CBRA@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background and Methodology

Background information on the Coastal Barrier Resources Act (CBRA; 16 U.S.C. 3501 et seq.) and the John H. Chafee Coastal Barrier Resources System (CBRS), as well as information on the 5-year review effort and the methodology used to produce the revised maps, can be found in a notice the U.S. Fish and Wildlife Service (Service) published in the Federal Register on November 22, 2022 (87 FR 71352).

Announced Map Modifications

This notice announces modifications to the maps for several CBRS units in Michigan, Minnesota, Mississippi, Ohio, South Carolina, Texas, and Wisconsin. Most of the modifications were made to reflect changes to the CBRS units as a result of natural forces (e.g., erosion and accretion). CBRA requires the Secretary of the Interior (Secretary) to review the maps of the CBRS at least once every 5 years and make, in consultation with the appropriate Federal, State, and local officials, such minor and technical modifications to the boundaries of the CBRS as are necessary solely to reflect changes that have occurred in the size or location of any unit as a result of natural forces (16 U.S.C. 3503(c)).

The Service's review resulted in a set of 118 final revised maps, dated December 30, 2022, depicting a total of 116 CBRS units. The set of maps includes:

• 36 maps for 46 CBRS units located in Michigan

• 1 map for 1 CBRS unit located in Minnesota

• 9 maps for 7 CBRS units located in Mississippi

• 7 maps for 10 CBRS units located in Ohio

• 7 maps for 10 CBRS units located in South Carolina

• 53 maps for 35 CBRS units located in Texas

• 5 maps for 7 CBRS units located in Wisconsin

The Service made modifications to a total of 18 CBRS units (of the 133 units reviewed) due to natural changes in their size or location since they were last mapped. No revised maps were prepared for the 17 North Carolina units that were included in our initial review. Because of ongoing geomorphic change in certain units and the need for additional data, the North Carolina units will be reviewed again in the future.

Consultation With Federal, State, and Local Officials

CBRA requires consultation with the appropriate Federal, State, and local officials (stakeholders) on the proposed CBRS boundary modifications to reflect changes that have occurred in the size or location of any CBRS unit as a result of natural forces (16 U.S.C 3503(c)). The Service fulfilled this requirement by holding a 30-day comment period on the draft revised boundaries for Federal, State, and local stakeholders, from November 22, 2022, through December 22, 2022. This comment period was announced in a notice published in the Federal Register (87 FR 71352) on November 22, 2022.

The Service notified approximately 340 stakeholders concerning the availability of the draft revised boundaries, including: (1) the Chair and Ranking Member of the House of Representatives Committee on Natural Resources, the Chair and Ranking Member of the Senate Committee on Environment and Public Works, and the members of the Senate and House of Representatives for the affected areas; (2) the governors of the affected areas; (3) State and local officials with floodplain management and/or land use responsibilities; and (4) Federal officials with knowledge of the coastal geomorphology within the project area.

Comments and Service Responses

Below is a summary of the 10 written comments and/or acknowledgements received from stakeholders (Federal, State, and local officials) and the Service's responses. One additional anonymous comment not pertaining to the 5-year review was received but is not summarized below. Interested parties may view the comments received during the stakeholder review period at https://www.regulations.gov under Docket No. FWS-HQ-ES-2022-0107 or may contact the Service individual identified in the FOR FURTHER INFORMATION CONTACT section to make arrangements to view copies of the comments.

(1.) Comment from the Manistee County Planning Department, Michigan: Manistee County indicated that the proposed change in the CBRS boundary around Snake Island appeared to be accurate. However, they raised a concern with the inland shoreline of Arcadia Lake, which they assert is not accurately shown on the point (located on the north side of the lake) and asked that it be corrected.

Our Response: We reviewed the official November 2, 1994, map for Unit MI-21, which is based upon a 1983 U.S. Geological Survey topographic quadrangle, and found that the boundary in question was not drawn to follow the shoreline of Arcadia Lake. Because this particular segment of boundary was not drawn to follow a geomorphic feature on the official map, no changes are warranted through the 5-year review process.

(2.) Comment from Representative Gregory F. Murphy, MD, House of Representatives, 3rd District, North Carolina: Representative Murphy requested that the Service exclude the lots serviced by infrastructure along North Carolina Highway 210 and New River Inlet Road from Unit L06, because he asserts these lots were mistakenly placed in the unit when the CBRS was first mapped.

Our Response: Changes to the CBRS boundaries through the 5-year review effort are limited to the administrative modifications the Secretary is authorized to make under CBRA (16 U.S.C. 3503(c)-(e)). Changes that are outside the scope of this authority must be made through the comprehensive map modernization process, which entails Congressional enactment of legislation to make the revised maps effective. Unit L06 has already undergone the comprehensive map modernization process, and the revised maps for the unit were adopted by Congress via the Strengthening Coastal Communities Act of 2018 (Pub. L. 115-358). These maps (dated December 21, 2018) removed about 78 structures from the CBRS and added about 170 acres to the CBRS (mostly wetlands). The results of the Service's review of the level of infrastructure within Unit L06 are described in our response to Comment 15 in Appendix E of our 2016 Final Report to Congress: John H. Chafee Coastal Barrier Resources System Digital Mapping Pilot Project. While we found some structures on the ground and a main trunk line of infrastructure that ran along the length of the unit in 1982 when it was first included within the CBRS, the area still met the CBRA criteria for an undeveloped coastal barrier. Therefore, we do not recommend remapping to remove the land currently in the CBRS unit except for a minor and technical correction to address an error in the vicinity of Barton Bay Court (affecting two existing structures) that was identified in 2021. We transmitted a draft revised map (dated April 30, 2021) correcting this minor error to Congress on August 10, 2021. That revised map will not take effect unless adopted by Congress through legislation. Additional information about this map is available on our website at https://www.fws.gov/project/current-coastal-barrier-resources-system-remapping-projects.

(3.) Comment from the Mayor of the Town of North Topsail Beach, North Carolina: The Town supports Representative Murphy's and Representative David Rouzer's efforts to exclude from Unit L06 the portions of North Topsail Beach serviced by infrastructure. The Town asserts that the Service did not consider the full complement of infrastructure in place at the time the area was first included in 1982 within the CBRS.

Our Response: See above response to Representative Murphy.

(4.) Comment from the Carteret County Beach Commission, North Carolina: Carteret County had no comment regarding the CBRS units in North Carolina, as no changes to the current maps are recommended at this time.

(5.) Comment from the National Park Service (NPS): The NPS commented in response to the Service's decision that we plan to revisit the North Carolina units due to ongoing geomorphic change and the need for additional data (including the NPS's completed Cape Hatteras and Cape Lookout National Seashores boundary surveys). The NPS provided a point of contact for further information about the status of the seashore boundary surveys, which were ongoing at the time of the 2022 5-year review.

(6.) Comment from the North Carolina Department of Public Safety: The State of North Carolina had no comment on the proposed modifications. They appreciate the Service's deferral of proposed changes in North Carolina due to the dynamic coast and the survey being conducted by the NPS.

(7.) Comment from the Ohio Department of Natural Resources (ODNR): The ODNR commented that the proposed change to the southern boundary of Unit OH-06 includes a portion of a Federal navigation channel in Sandusky Bay. They assert that the existing area is adequate to account for potential accretion of the Bay Point sand spit and therefore no modification to the existing boundary is needed. However, if the boundary is to be modified, ODNR recommends that the proposed boundary be adjusted to eliminate inclusion of the Federal navigation channel. Additionally, ODNR commented that the revision of the CBRS units is a Federal agency activity that will have reasonably foreseeable effects on coastal uses and resources in Ohio's coastal zone. As ODNR is the designated State agency charged with implementing Ohio's federally approved Coastal Management Program under the Coastal Zone Management Act (CZMA; 16 U.S.C. 1451-1464 and 15 CFR part 930), they assert that the Service is required to submit a Federal consistency determination to ODNR for this project. After the comment period closed, we received an email from the Buffalo District of the U.S. Army Corps of Engineers concurring with ODNR's comment.

Our Response: We reviewed the expansion of Unit OH-06 and agree that the proposed change was larger than necessary to account for geomorphic change at Bay Point. We have reduced the proposed addition to include only the area where accretion is occurring, and the Federal navigation channel is no longer proposed for inclusion within the unit. However, CBRA does exempt Federal expenditures (following consultation between the action agency and the Service) for “the maintenance or construction of improvements of existing Federal navigation channels (including the Intracoastal Waterway) and related structures (such as jetties), including the disposal of dredge materials related to such maintenance or construction” (16 U.S.C. 3505(a)(2)).

Regarding ODNR's CZMA comment, the Service has determined that the modification of the CBRS boundaries to comply with the statutory 5-year review requirement does not require a consistency review under the CZMA. Federal agencies are responsible for ensuring that consistency review under the CZMA is completed as needed for each action they fund, authorize, or carry out. The CZMA's implementing regulations at 15 CFR 930.31(a) define “Federal agency activity” in part as any functions performed by or on behalf of a Federal agency in the exercise of its statutory responsibilities. The term includes a range of activities where a Federal agency makes a proposal for action initiating an activity or series of activities when coastal effects are reasonably foreseeable (e.g., a Federal agency's proposal to physically alter coastal resources, a plan that is used to direct future agency actions, a proposed rulemaking that alters uses of the coastal zone). Thus, as the CZMA regulation makes clear, the consistency requirement is directed at Federal agency activities that result in effects to coastal zone resources or uses.

CBRA encourages the conservation of storm-prone and dynamic coastal barriers by requiring that no new Federal expenditures or financial assistance be made available within CBRS units unless allowed under CBRA. The units were originally designated on a set of maps adopted by Congress through legislation, and these maps are maintained by the Service. CBRA does not restrict activities conducted with private, State, or local funds, and it also contains exceptions that allow Federal agencies to fund certain projects and provide financial assistance within the CBRS following consultation with the Service.

Inclusion of areas within the CBRS through the 5-year review (which makes minor and technical modifications to existing CBRS units to address geomorphic change) results in a requirement that Federal agencies ensure that any action they fund, authorize, or carry out is compliant with CBRA and its consultation requirement. Even in a case where Federal funding for a project is prohibited by CBRA, it may still be carried out with an alternative non-Federal funding source. Therefore, while we understand the ODNR's position, we have determined that the 5-year review is not a Federal agency activity itself, and a CZMA Federal consistency review is not needed.

(8.) Comment from the Town Administrator of the Town of Pawleys Island, South Carolina: Pawleys Island commented that there are no proposed changes to CBRS Unit M02; however, they have concerns with the inclusion of a jetty (located on the south side of Midway Inlet on the north end of Pawleys Island) within the current boundary of the unit. In particular, the Town requests clarity on the implications of the CBRS on making repairs to the jetty, which are anticipated to occur in the next couple of years. The Town also requested a meeting with the Service to discuss this matter further.

Our Response: Changes to the CBRS boundaries through the 5-year review process are limited to the administrative modifications the Secretary is authorized to make under CBRA (16 U.S.C. 3503(c)-(e)). Changes that are outside the scope of this authority must be made through the comprehensive map modernization process, which requires Congressional enactment of legislation to make the revised maps effective. Unit M02 has already undergone the comprehensive map modernization process, and the revised maps for the unit were adopted by Congress via the Strengthening Coastal Communities Act of 2018 (Pub. L. 115-358). At that time, the Service carefully reviewed the area where the jetty is located, and we determined that the jetty was not included within the CBRS as the result of a mapping error.

Our historical background records indicate that in 1982, when Unit M02 was established, the Department of the Interior (Department) was aware of the shoreline stabilizing structures (at that time, it was rock revetments and a small pile-driven groin) at the north end of Pawleys Island. The Department considered the presence of these structures and found no basis for excluding the property where the structures were located from the CBRS. This issue is addressed in the response to Comment 21 in Appendix E of our 2016 Final Report to Congress: John H. Chafee Coastal Barrier Resources System Digital Mapping Pilot Project. The Service met with the Town Administrator in January 2023 to discuss as requested.

(9.) Comment from FEMA, Region 6, Mitigation Division: FEMA requested that we contact the floodplain administrator for the City of Rio Grande City, Texas, for the review of this CBRS mapping project (including possible permit requirements). In addition, FEMA requested that the CBRS mapping project comply with Executive Orders (EOs) 11988 and 11990 if it is federally funded.

Our Response: The Service did not contact Rio Grande City, as it is over 100 miles inland and our mapping project is along the coast of Texas. However, the Service did specifically contact State and local officials with floodplain management and/or land use responsibilities in the affected areas. Additionally, EOs 11988 and 11990 do not apply to the Service's CBRS mapping activities, as there is no associated on-the-ground activity or financial assistance. Furthermore, CBRA does not plan, regulate, or license any land use or development (it merely limits the use of Federal funds for certain prohibited activities, with no restrictions on private, State, or locally funded projects). CBRA is consistent with the spirit of both EOs (which seek to avoid adverse impacts associated with the modification or development of floodplains and wetlands) because it discourages development and modification of coastal barriers and their associated aquatic habitat.

(10.) Comment from the U.S. Geological Survey (USGS), Coastal/Marine Hazards and Resources Program: USGS concurred with the CBRS review process, indicating that updated imagery detected necessary changes resulting from natural processes to a handful of the CBRS units. USGS identified some minor inconsistencies between boundaries and current imagery in a few cases and a difference in the level of fidelity to small-scale features defining boundaries in some areas. USGS recommended that boundary changes in submerged areas (e.g., Unit WI-04) be more clearly explained.

Our Response: We met with USGS to discuss the specific issues raised. Based on the comments USGS provided, we found that the summary of change for Unit WI-04 needed to be updated to provide additional explanation for the change. We acknowledge that there are some inconsistencies and differences in the level of fidelity to small-scale features, due to a variety of reasons. Some inconsistencies were inherited from the original mapping of the units in the 1980s and 1990s (which was done by hand on 1:24,000 scale USGS topographic quadrangles). We are limited in our authority to make administrative changes to the boundaries under CBRA (16 U.S.C. 3503(c)-(e)) and cannot make changes solely to make the boundaries more consistent with each other.

Additionally, we declined to make changes to certain boundaries where there may be a relationship between the boundary and another feature (such as a park boundary or an international boundary); This can lead to perceived inconsistencies. However, in such cases, further review may be warranted through the comprehensive remapping process. Furthermore, some changes in the units cannot be addressed through our 5-year review authority, because they are caused by human activity rather than by natural forces.

Changes to Draft Boundaries

As a result of a stakeholder comment received during the comment period, the Service made one change to the boundaries (which were displayed on a web mapping application on the Service's website and are now depicted on the final revised maps, dated December 30, 2022). This boundary change is to Ohio Unit OH-06, and the justification for this change is described in the Consultation with Federal, State, and Local Officials section of this notice. The remaining CBRS boundaries depicted on the final revised maps, dated December 30, 2022, are identical to those that were announced for stakeholder review.

Summary of Modifications to the CBRS Maps

Below is a summary of the changes depicted on the final revised maps of December 30, 2022.

Michigan

The Service's review found that 3 of the 46 CBRS units in Michigan required changes due to natural forces. The imagery that was used for this review and the revised maps is dated 2020. Additionally, one adjustment was needed to the northern lateral boundary of Sadony Bayou Unit MI-22 to maintain the relationship between the boundary and a structure that was on the ground prior to the designation of the CBRS unit in 1990. This structure appeared to be outside of the unit on the 2012 NAIP imagery used for the previous official map but appears to be within the unit on the 2020 imagery due to an approximately 10-foot difference in location between the two images. The boundary has been adjusted to the south by about 10 feet to maintain the relationship between the boundary and the structure that was depicted on the previous map, and the structure remains outside of the unit.

In September 2022, the U.S. Board on Geographic Names voted to replace the names of nearly 650 geographic features that had previously featured a derogatory word for indigenous women. These name changes affect three Michigan units, which have been updated accordingly.

MI-05: HURON CITY. The boundary of the unit has been modified to account for shoreline erosion along Lake Huron to the east of Willow Creek.

MI-13: BIRDSONG BAY. The name of this unit has been changed from “Squaw Bay” to “Birdsong Bay” to reflect the new name of the underlying feature.

MI-21: ARCADIA LAKE. The boundary of the unit has been modified to account for natural changes along the shoreline of the peninsula located between Arcadia Lake and Lake Michigan.

MI-25: MINO-KWE POINT. The name of this unit has been changed from “Squaw Point” to “Mino-kwe Point” to reflect the new name of the underlying feature.

MI-40: GREEN ISLAND. The boundary of the unit has been modified to account for shoreline erosion along Lake Michigan at Point la Barbe.

MI-64: MINO-KWE JIIGIBIIK. The name of this unit has been changed from “Squaw Beach” to “Mino-kwe jiigibiik” to reflect the new name of the underlying feature.

Minnesota

The Service's review found that the boundaries of Unit MN-01 (the only CBRS unit in Minnesota) did not need to be modified due to changes from natural forces. The imagery that was used for this review and the revised map is dated 2021.

Mississippi

The Service's review found that two of the seven CBRS units in Mississippi required changes due to natural forces. The imagery that was used for this review and the revised maps is dated 2021.

R02: DEER ISLAND. The western boundary of the unit has been modified to account for accretion at the western end of Deer Island.

R03: CAT ISLAND. The southern boundary of the eastern segment of the unit has been modified to account for accretion of the spit at the south end of Cat Island.

North Carolina

The Service reviewed the 17 CBRS units in North Carolina, but made no changes. Revised maps have not been produced for this State. The imagery that was used on the currently effective maps is dated 2010, 2012, or 2014, depending on the unit. The imagery that was used for this review is dated 2020.

While no changes have been made to the CBRS boundaries in North Carolina at this time, future changes may be warranted for the boundaries of Unit NC-03P, which were updated by Congress in 1999 through Public Law 106-116 to align with the boundaries of Cape Hatteras National Seashore at that time. However, significant shoreline erosion has occurred along the Atlantic coast of Hatteras Island, particularly in the villages of Rodanthe, Waves, Avon, and Buxton, and the CBRS boundary is now hundreds of feet offshore in some places. Erosion is occurring at a rate of 2-4 meters per year in some areas.

In those places where the shoreline has eroded significantly, the boundary of Cape Hatteras National Seashore is now the mean high-water line. Numerous structures may be located seaward of the mean high-water line due to erosion and may be on property owned by the National Park Service. Some of these structures have been deemed uninhabitable due to compromised septic systems and/or other issues. At the time of our review, the National Park Service was planning to conduct a boundary survey. As the survey was incomplete before our 5-year review effort was completed, we have not made any boundary modifications at this time. We will also continue to monitor geomorphic change occurring in other areas in North Carolina, including the northwestern boundary of Unit L03AP (where geomorphic change is occurring very near to the CBRS boundary along Shackleford Banks).

In the future, we plan to revisit the North Carolina CBRS units through the 5-year review authority, provided that sufficient data is available at the time of our review. More information about our review of North Carolina units can be found in a notice the Service published in the Federal Register on November 22, 2022 (87 FR 71352).

Ohio

The Service's review found that 1 of the 10 CBRS units in Ohio required changes due to natural forces. The imagery that was used for this review and the revised maps is dated 2021.

OH-06: BAY POINT. The southern boundary of the unit has been modified to account for the southward accretion of Bay Point.

South Carolina

The Service's review found that 3 of the 10 CBRS units in South Carolina that are included in this review (Units M02, M03, M08, M09/M09P, M10, M13, SC-01, SC-03, and SC-10P) required changes due to natural forces. The imagery that was used for this review and the revised maps is dated 2021.

The remaining 13 South Carolina units were not included in this review because they were either comprehensively reviewed in 2021 or they will be included in a more comprehensive review (beyond the scope of the 5-year review) at a later date, at which time the Service will also complete an assessment of changes necessary due to natural forces.

M03: PAWLEYS INLET. The southwestern boundary of the unit has been modified to account for natural changes in the wetlands.

M09: EDISTO COMPLEX. The coincident boundary between Units M09 and M09P has been modified to follow the current location of Jeremy Inlet. The landward boundary of the unit has been modified to reflect natural changes in the configuration of the wetlands along the Townsend River.

M09P: EDISTO COMPLEX. The coincident boundary between Units M09 and M09P has been modified to follow the current location of Jeremy Inlet.

Texas

The Service's review found that 6 of the 35 CBRS units in Texas required changes due to natural forces. The imagery that was used for this review and the revised maps is dated 2020.

T03A: BOLIVAR PENINSULA. The boundary of the unit has been modified to reflect natural changes in the configuration of the wetlands on and around the Bolivar Peninsula.

T04: FOLLETS ISLAND. The boundary of the unit (a portion of which is coincident with Unit T04P) has been modified to reflect erosion along the shorelines of Mud Island and Moody Island.

T04P: FOLLETS ISLAND. The boundary of the unit (a portion of which is coincident with Unit T04) has been modified to reflect erosion along the shoreline of Moody Island.

T07: MATAGORDA PENINSULA. The coincident boundary between Units T07 and T07P has been modified to account for natural changes at the mouth of Caney Creek.

T07P: MATAGORDA PENINSULA. The coincident boundary between Units T07 and T07P has been modified to account for natural changes at the mouth of Caney Creek.

T12: BOCA CHICA. The boundary of the unit has been modified to account for natural changes along the shoreline of the Rio Grande.

Wisconsin

The Service's review found that three of the seven CBRS units in Wisconsin required changes due to natural forces. The imagery that was used for this review and the revised maps is dated 2020.

WI-03: PESHTIGO POINT. The southern boundary of the western segment of the unit has been modified to account for erosion and an increased lake level in Green Bay.

WI-04: DYERS SLOUGH. The eastern boundary of the unit has been modified to account for erosion and an increased lake level in Green Bay and maintain a relationship between the boundary and the shoreline of the landform at the mouth of the Peshtigo River.

WI-07: FLAG RIVER. The western boundary of the unit has been modified to reflect natural changes in the configuration of the wetlands at the mouth of the Flag River.

Availability of Final Maps and Related Information

The final revised maps dated December 30, 2022, can be accessed and downloaded from the Service's website at https://www.fws.gov/cbra. The boundaries are available for viewing in the CBRS Mapper. Additionally, a shapefile and Web Map Service (WMS) of the boundaries, which can be used with GIS software, are available online. These data are best viewed using the base imagery to which the boundaries were drawn; the base imagery sources and dates are included in the metadata for the digital boundaries and are also printed on the official maps. The Service is not responsible for any misuse or misinterpretation of the shapefile or WMS.

Interested parties may also contact the Service individual identified in FOR FURTHER INFORMATION CONTACT to make arrangements to view the final maps at the Service's Headquarters office. Interested parties who are unable to access the maps via the Service's website or at the Service's Headquarters office may contact the Service individual identified in FOR FURTHER INFORMATION CONTACT, and reasonable accommodations will be made.

Signing Authority

Gary Frazer, Assistant Director for Ecological Services, approved this action on August 9, 2023, for publication. On August 9, 2023, Gary Frazer authorized the undersigned to sign the document electronically and submit it to the Office of the Federal Register for publication as an official document of the U.S. Fish and Wildlife Service.

Martha E. Balis-Larsen,
Acting Assistant Director for Ecological Services, U.S. Fish and Wildlife Service.

[FR Doc. 2023-17552 Filed 8-15-23; 8:45 am]

BILLING CODE 4333-15-P